DEPARTMENT OF AGRICULTURE

Forest Service

RIN 0596-AC39

Travel Management, Proposed Forest Service Directives; Forest Service Manual 2350, 7700, and 7710 and Forest Service Handbook 7709.55

AGENCY: Forest Service, USDA.

ACTION: Proposed directives; request for comment.

SUMMARY: The Forest Service proposes to amend internal agency directives regarding travel management to make them consistent with and facilitate implementation of the agency's final travel management rule (36 CFR part 212), “Travel Management; Designated Routes and Areas for Motor Vehicle Use” (70 FR 68264, November 9, 2005) (travel management rule). The travel management rule requires each Forest Service administrative unit or Ranger District to designate those roads, trails, and areas open to motor vehicle use.

Changes to existing travel management directives are needed to provide guidance on implementation of the travel management rule, to conform terminology to the rule, to provide consistent direction on the process of designating roads, trails, and areas for motor vehicle use, and to integrate direction on roads analysis with direction on travel planning.

The proposed directives would consolidate direction for travel planning for both roads and trails in Forest Service Manual (FSM) 7710 and Forest Service Handbook (FSH) 7709.55. Direction for trail management would continue to be found in FSM 2350. Consistent terminology and delegations of authority would be established in FSM 7700, Zero Code.

The proposed directives expand the scope of the current roads analysis process to encompass trails and areas designated for motor vehicle use, while streamlining some of the procedural requirements involved.

DATES: Comments must be received in writing by May 8, 2007.

ADDRESSES: Send written comments to Travel Management Proposed Directives, Attention: LeRoy Schmitz, c/o USDA Forest Service Northern Region, P.O. Box 7669, Missoula, MT 59807; by delivery service to 200 East Broadway, Missoula MT 59807; by e-mail to traveldir@fs.fed.us; or by facsimile to 406-329-3198.

All comments, including names and addresses when provided, will be placed in the record and will be available for public inspection and copying. The public may inspect comments received on these proposed directives in the office of the Director of Engineering, USDA Forest Service Northern Region, 200 East Broadway, Missoula, MT 59807, on business days between the hours of 8:30 a.m. and 4 p.m. Those wishing to inspect comments are encouraged to call ahead at 406-329-3173 to facilitate entry into the building.

FOR FURTHER INFORMATION CONTACT: Joe Gallagher, Recreation and Heritage Resources Staff, (202) 205-0931.

SUPPLEMENTARY INFORMATION:

Background

On November 9, 2005, the Forest Service published the travel management rule, governing use of motor vehicles on National Forest System (NFS) lands. The travel management rule (36 CFR part 212, subpart B) requires each administrative unit or Ranger District to designate those roads, trails, and areas open to motor vehicle use by vehicle class and, if appropriate, by time of year. The travel management rule also requires designated roads, trails, and areas to be identified on a motor vehicle use map. After roads, trails, and areas have been designated and identified on a motor vehicle use map, motor vehicle use inconsistent with those designations is prohibited under 36 CFR 261.13.

The travel management rule combined regulations governing administration of the forest transportation system and regulations governing use of motor vehicles off NFS roads into part 212, Travel Management, covering the use of motor vehicles on NFS lands. The travel management rule implements Executive Order (E.O.) 11644 (February 8, 1972), “Use of Off-Road Vehicles on the Public Lands,” as amended by E.O. 11989 (May 24, 1977).

Nationally, the Forest Service manages approximately 287,000 miles of NFS roads and 32,000 miles of NFS trails that are open to motor vehicle use. Other NFS roads and NFS trails are managed for nonmotorized uses or are not open to general public use. Motor vehicle routes in the forest transportation system range from paved roads designed for passenger cars to single-track trails used by dirt bikes. Many roads designed for high-clearance vehicles (such as logging trucks and sport utility vehicles) are also used by all-terrain vehicles (ATVs) and other off-highway vehicles (OHVs) not normally found on city streets. Almost all NFS trails serve nonmotorized users such as hikers, bicyclists, and equestrians, alone or in combination with motorized users. NFS roads often accept nonmotorized use as well.

In addition to this managed system of NFS roads and NFS trails, many National Forests contain user-created roads and trails. These routes are concentrated in areas where cross-country travel by motor vehicles has been allowed and sometimes include dense, braided networks of criss-crossing trail. There has been no comprehensive national inventory of user-created routes (and continuing proliferation of these routes has made a definitive inventory difficult), but they are estimated to number in the tens of thousands of miles.

Wilderness areas are closed to motor vehicles by statute. On some National Forests and portions of others, motor vehicle use is restricted by order to designated routes and areas. On other National Forests, motor vehicle use is not restricted to designated routes and areas.

Need for Proposed Directives

The Forest Service provides internal direction to field units through its directives system, consisting of the FSM and FSH. Directives provide guidance to field units in implementing programs established by statute and regulation. Forest Service directives establish agency policy for delegations of authority, consistent definitions of terms, clear and consistent interpretation of regulatory language, and standard processes.

The travel management rule will be implemented on administrative units and Ranger Districts, each of which will complete the designation process and publish a motor vehicle use map identifying those NFS roads, NFS trails, and areas on NFS lands open to motor vehicle use. The Forest Service hopes to complete that task on all units of the NFS within 4 years.

One of the main objectives of the travel management rule is to provide a consistent procedural framework and consistent terminology for travel management decisions made at the local level. Current policy in the Forest Service directives system was written prior to the travel management rule and reflects previous travel management direction and terminology. For example, current directives use the terms “classified road” and “unclassified road,” which were removed by the travel management rule. Until this policy is updated, inconsistent terminology may result in confusion and inconsistent application of the travel management rule. The proposed directives are also needed to provide a procedural approach to implementing the travel management rule in conformance with agency policy on land management planning, environmental analysis, roads analysis, and other requirements of law and policy.

While some of the proposed changes simply reiterate direction in the travel management rule, other proposed changes provide clarifying instructions, delegations of authority, or other guidance on implementing the travel management rule.

To ensure timely and consistent implementation of the travel management rule, the Forest Service is proposing to amend travel management directives in FSM 2350, 7700, and 7710 and FSH 7709.55. Many comments on the proposed travel management regulation requested an opportunity for public input in development of agency directives implementing the travel management rule, and these proposed directives are expected to garner substantial public interest. Pursuant to 36 CFR part 216 and to build public understanding of and participation in travel management decisions, the Forest Service is seeking comment on these proposed directives. The proposed directives are available for review on the Forest Service Web site at http://www.fs.fed.us/recreation/programs/ohv. Additional purely technical, nonsubstantive amendments to FSM 2354 and 7730 and FSH 2309.18 and 7709.59 (which primarily conform terminology in those directives to terminology in the travel management rule) will be issued without public notice and comment when these proposed directives are finalized.

Summary of Changes

The proposed directives would conform agency directives to the travel management rule. Many of the proposed changes to the directives simply reiterate requirements of the travel management rule or update terminology based on the travel management rule. The Forest Service is not proposing to revise the travel management rule. Reviewers may find it helpful to become familiar with the travel management rule before reviewing these proposed directives.

The proposed directives would consolidate Forest Service policy for travel management into FSM 7700. This chapter, now entitled “Transportation System,” would be renamed “Travel Management” to be consistent with the new title of 36 CFR part 212. FSM 7700, Zero Code, would be amended to contain new authorities and responsibilities. FSM 7710, “Travel Planning,” would be amended to provide direction on travel analysis and route and area designation. The “Travel Planning Handbook,” FSH 7709.55, would be revised to integrate roads analysis into the new travel management process. Directives governing road maintenance and operations would remain in FSM 7730, “Operations and Maintenance,” and FSH 7709.59, the Road System Operations Handbook.

Within FSM 2300, “Recreation Management,” FSM 2350, “Trail, River, and Similar Recreation Opportunities,” would be amended to consolidate travel planning direction for motor vehicle use, mirroring the consolidation of regulations formerly in 36 CFR parts 212 and 295. Directives governing trail maintenance and operations would remain in FSM 2350 and FSH 2309.18.

A key objective of the proposed directives is to integrate roads analysis, as required by 36 CFR part 212, subpart A, with the travel management process required by 36 CFR part 212, subpart B, to avoid duplicative planning processes. On January 12, 2001, the Forest Service published final regulations at 36 CFR part 212, “Administration of the Forest Development Transportation System; Prohibitions; Use of Motor Vehicles Off Forest System Roads; Final Rule” (roads rule), and “Forest Service Transportation; Final Administrative Policy; Notice” (roads policy) (66 FR 3216). The roads rule requires each administrative unit of the NFS to “identify the minimum road system needed for safe and efficient travel and for administration, utilization, and protection of National Forest System lands * * * incorporating a science-based roads analysis at the appropriate scale” (36 CFR 212.5(b)). The new travel management rule requires each administrative unit or Ranger District of the NFS to designate those roads, trails, and areas open to motor vehicle use. The Forest Service believes that a single, integrated analysis can be used to fulfill both requirements.

The roads policy (FSM 7700 and 7710) established Publication FS-643, Roads Analysis: Informing Decisions About Managing the National Forest Transportation System (August 1999), as the science-based roads analysis to be followed when implementing the roads rule. The roads policy also established specific requirements for the use of roads analysis at various scales prior to making travel management decisions involving NFS roads. The proposed changes in the Forest Service directives would move the six-step analysis described in FS-643 to FSH 7709.55, Chapter 20, and rename it “Travel Analysis” to reflect its broader application in informing travel management decisions regarding motor vehicle use on NFS roads, on NFS trails, and in areas on NFS lands. The Forest Service also proposes to change its directives to streamline the travel analysis process and to provide the responsible official additional discretion in determining the scope and scale of travel analysis.

In addition to the section-by-section discussion that follows, the digest section of the proposed directives enumerates the proposed changes from existing directives.

Section-by-Section Analysis of Proposed Changes

Proposed Revisions to FSM 2350, “Trail, River, and Similar Recreation Opportunities”

FSM 2352, “Road Recreation Management,” and FSM 2355, “Off-Road Vehicle Use Management,” would be removed. To ensure consistent implementation of the travel management rule, direction for travel planning, travel management decisions, and designation of roads, trails, and areas for motor vehicle use would be moved to FSM 7710, “Travel Planning,” and would be revised to be consistent with 36 CFR part 212.

FSM 2353, “National Forest System Trails,” would be revised to conform with the terminology and contents of 36 CFR part 212. FSM 2353.28, “Management of Motor Vehicle Use,” would be added to provide guidance for management of NFS trails designated for motor vehicle use. Other proposed technical corrections not directly associated with the travel management rule would update FSM 2353 to conform with changes in laws, regulations, and policy that have occurred since this section was last updated. Examples include the 2005 planning rule, the Forest Service's national Infrastructure database, and changes in the Forest Service's organizational structure and accounting practices.

Proposed Revisions to FSM 7700, “Travel Management,” Zero Code

FSM 7700, Zero Code, sets general direction applicable to the entire chapter, including FSM 7710 through 7740. The series title would be changed from “Transportation System” to “Travel Management.” In general, the Zero Code enumerates the agency's authority to establish policy, sets out the agency's objectives and general policy for travel management, provides for delegation of authority to agency officials, and contains definitions for terms used throughout the chapter. FSM 7700 concludes by identifying the handbooks supplementing the direction in that chapter.

In FSM 7701, “Authority,” the references to 36 CFR part 212 would be updated to reflect the changes effected by the travel management rule and to include references to E.O. 11644.

FSM 7702, “Objectives,” would be updated to reflect the objectives of the travel management rule: to manage motor vehicle use within the capabilities of the land and within available agency resources; to provide a wide range of recreation experiences for NFS visitors; to address visitor safety; and to involve the public and coordinate with relevant governmental entities in designating roads, trails, and areas for motor vehicle use. The proposed directives would add an objective to make use of transit and intermodal transportation systems.

FSM 7703, “Policy,” would be updated to reflect new regulatory requirements in 36 CFR part 212 and to provide for consistent interpretation of those requirements. In general, the proposed directives would require the responsible official to provide a transportation system consistent with the desired conditions described in the applicable land management plan and to coordinate with other transportation officials and State, local, and tribal governments when making travel management decisions.

FSM 7703.1, “Travel Management,” would provide general direction for designating routes and areas. FSM 7703.1 would reiterate the regulatory requirements at 36 CFR part 212, subpart B. In addition, FSM 7703.1 would require responsible officials to use travel analysis to consider the criteria in 36 CFR 212.55 and contribute towards identification of the minimum road system needed for safe and efficient travel and for administration, utilization, and protection of NFS lands (36 CFR 212.5(b)). Responsible officials would be advised to use restraint in designating areas for motor vehicle use. Areas are not intended to be large or numerous and should have natural resource characteristics that are suitable for cross-country motor vehicle use. No administrative unit would be required to designate areas.

FSM 7703.2, “Management Opportunities,” would require travel analysis to be based on a complete inventory of NFS roads and NFS trails. A complete inventory of user-created routes would not be required. However, responsible officials would be required to work with the public to identify which user-created routes might be suitable for inclusion in the forest transportation system. FSM 7703.2 would require consideration of the full spectrum of motorized and nonmotorized recreation opportunities, so that designation results in an appropriate mix of recreational activities that minimize conflicts among uses. Responsible officials would be encouraged to consider the availability of resources for maintenance and administration before adding routes to the forest transportation system. Grants, agreements, and volunteers would be considered in this evaluation. Lastly, the requirement that travel management decisions be informed by travel analysis would be restated and clearly established as policy.

FSM 7703.22, “Motor Vehicle Use Off Designated Roads and Trails and Outside Designated Areas,” would reiterate the regulatory provision that once designation is complete on an administrative unit or Ranger District and designated routes and areas are identified on a motor vehicle use map, motor vehicle use off the designated system or inconsistent with the designations will be prohibited by 36 CFR 261.13. Responsible officials would be advised to apply provisions for limited use of motor vehicles for big game retrieval or dispersed camping sparingly per 36 CFR 212.51(b).

FSM 7703.23, “Use by Over-Snow Vehicles and Non-Motorized Use,” would establish that responsible officials may use the provisions in 36 CFR 212.81 and 261.14 to allow, restrict, or prohibit use by over-snow vehicles on NFS roads, on NFS trails, and in areas on NFS lands.

FSM 7703.24, “Maintaining and Reconstructing Roads,” FSM 7703.25, “Decommissioning Roads,” and FSM 7703.26, “Adding Roads,” would not be changed.

FSM 7703.3, “Jurisdiction Over Forest Transportation Facilities,” would update terminology to match definitions in 36 CFR 212.1, to expand language to encompass jurisdiction over trails as well as roads, and to recognize that multiple agencies may share jurisdiction over a single road or trail.

FSM 7703.4, “Common Transportation Interests With Local Public Road Authorities and Other Landowners,” would incorporate minor wording changes to improve clarity and to correct the cross-reference to FSH 1509.11, section 23.

FSM 7703.5 would be renamed “Agreements for Road Operation and Maintenance,” and would add a cross-reference to FSM 2353.16.

FSM 7704, “Responsibility,” would establish delegations of authority for agency officials in travel management. Responsibilities for the Director of Recreation and Heritage Resources, Washington Office, would be added to reflect the integration in FSM 7700 of direction for motor vehicle use on NFS trails and in areas on NFS lands. Regional Foresters would have the responsibility to coordinate travel analysis and planning to promote consistency within States and between adjacent national forests. Forest Supervisors would be responsible for conducting travel analysis, making travel management decisions, monitoring motor vehicle use, and maintaining information about the forest transportation system.

FSM 7705, “Definitions,” would remove definitions for “classified roads,” “forest roads,” “new road construction,” “road improvement,” “road realignment,” “road reconstruction,” “temporary roads,” “traffic service level,” “transportation facility jurisdiction,” and “unclassified roads”; would add definitions for “administrative unit,” “all-terrain vehicle,” “area,” “arterial road,” “collector road,” “designated road, trail, or area,” “engineering analysis,” “engineering judgment,” “engineering report,” “forest road or trail,” “forest transportation atlas,” “forest transportation system,” “highway-legal vehicle,” “jurisdiction over a forest transportation facility,” “local road,” “motor vehicle,” “motor vehicle use map,” “motorcycle,” “motorized mixed use,” “National Forest System trail,” “non-highway-legal vehicle,” “off-highway vehicle,” “over-snow vehicle,” “private road,” “qualified engineer,” “road construction or reconstruction,” “route,” “temporary road or trail,” “terminal facility,” “trail,” “travel management atlas,” and “unauthorized road or trail”; and would revise definitions for “forest transportation facility,” “forest transportation system management,” “public road,” “road,” “road decommissioning,” “road maintenance,” and “road subject to the Highway Safety Act.”

FSM 7705, Exhibit 1, would be revised to reflect policy changes and changes in terminology and definitions.

FSM 7709 would be updated to reflect changes in the titles of FSH 7709.55 and 7709.59.

Proposed Revisions to FSM 7710, “Travel Planning”

This chapter would be renamed “Travel Planning.” Existing direction for planning associated with the forest transportation system would be revised to reflect the regulatory changes in 36 CFR part 212. Directives implementing the roads policy (36 CFR part 212, subpart A) would be largely retained, but would be updated to reflect the use of travel analysis both to identify the minimum road system needed for safe and efficient travel and for administration, utilization, and protection of NFS lands and to inform travel management decisions related to designation of roads, trails, and areas for motor vehicle use. FSM 7710 also would provide responsible officials the discretion to allow, restrict, or prohibit use of over-snow vehicles on NFS lands per 36 CFR part 212, subpart C.

The travel planning chapter would be organized into 10 sections: FSM 7710 would establish authorities, objectives, policy, responsibilities, and definitions unique to this chapter. FSM 7711 would establish policy for developing and maintaining forest transportation system records, including motor vehicle use maps. FSM 7712 would establish policy for conducting travel analysis. FSM 7713 and 7719 would be reserved for future direction. FSM 7714 would establish requirements for developing road and trail management objectives. FSM 7715 would establish policy for making travel management decisions. FSM 7716 would establish policy for designating routes and areas for motor vehicle use. FSM 7717 would set policy for monitoring motor vehicle use and revising designations. FSM 7718 would describe policy for use of over-snow vehicles.

FSM 7710.1, “Authority,” and FSM 7710.2, “Objectives,” largely would reiterate the authorities and objectives established in FSM 7700, Zero Code.

FSM 7710.3, “Policy,” would establish policy for determining the minimum road system needed for safe and efficient travel and for administration, utilization, and protection of NFS lands. FSM 7710.3 would require appropriate travel analysis, environmental analysis, public involvement, and intergovernmental coordination to inform travel management decisions. The criteria in 36 CFR 212.55 would guide travel management decisions.

FSM 7710.04, “Responsibility,” would assign the Deputy Chief for the National Forest System the responsibility for approving schedules for completing designation on each administrative unit or Ranger District. The Director of Engineering, Washington Office, would be responsible for maintaining and publishing national standards for motor vehicle use maps. Regional Foresters would develop regional schedules for designation and promote coordination within States and between units. Forest Supervisors would be responsible for coordination with Federal, State, county, and local public road authorities; developing and maintaining travel management atlases and motor vehicle use maps; issuing temporary emergency closures under 36 CFR 212.52(b)(2); approving travel management decisions that designate roads for motorized mixed use; conducting travel analysis; conducting appropriate environmental analysis and making travel management decisions; designating NFS roads, NFS trails, and areas on NFS lands for motor vehicle use; revising designations when necessary; regulating over-snow vehicle use on NFS lands when appropriate; and monitoring motor vehicle use. District Rangers would approve road and trail management objectives and other duties as delegated by the Forest Supervisor.

FSM 7710.5, “Definitions,” would add definitions for “primitive area” and “travel management decision” and would remove the definition for “network analysis.”

FSM 7711, “Forest Transportation System Records,” would add policy for developing and maintaining a travel management atlas and making it available to the public. The travel management atlas consists of two parts: the motor vehicle use map and the forest transportation atlas. The forest transportation atlas consists of maps, inventories, and plans for forest transportation facilities and tabular and other data documenting the forest transportation system, including a road atlas. Travel management decisions would be documented in the travel management atlas. Proposed direction would allow storage of information on unauthorized and decommissioned routes, as well as routes in the forest transportation system.

FSM 7711.3 would specify the contents of motor vehicle use maps. Motor vehicle use maps would be widely available to the public and would be reprinted annually regardless of whether there are any changes to designations.

Per 36 CFR 212.5(b), FSM 7712, “Travel Analysis,” would require that the travel analysis in FSH 7709.55 incorporate a science-based roads analysis at the appropriate scale. Travel analysis would not be a decision-making process, but would be required to inform travel management decisions, including determining the minimum road system needed for safe and efficient travel and for administration, utilization, and protection of NFS lands. Travel analysis also could be used to inform decisions relating to management of over-snow vehicle use.

FSM 7712.1, “Scale and Scope of Travel Analysis,” would revise direction on the application of roads analysis and remove the reference to FS-643. Units would still be required to complete a travel analysis addressing broad-scale concerns, but responsible officials would have more discretion to determine the scale and scope at which to conduct travel analysis. Travel analysis would result in a set of focused proposals for changes to the forest transportation system or to existing travel management direction. As under existing policy, travel analysis would be based on a complete and accurate inventory of the forest transportation system on an administrative unit or a Ranger District, but in contrast to existing policy, a complete inventory of user-created routes on a unit or district would no longer be required.

FSM 7712.2, “Travel Analysis and Land Management Planning,” would reflect recent changes in regulations governing land management planning at 36 CFR part 219 and would establish that travel management decisions are made at the project level. While travel management decisions must be consistent with the applicable land management plan, they would not be made as part of the land management planning process.

FSM 7712.3, “Relationship of Travel Analysis to Travel Management Decisions,” would establish direction on the use of travel analysis and the components of travel analysis when it is used to inform travel management decisions.

FSM 7712.4, “Travel Analysis for Administration of the Forest Transportation System,” would revise direction for the use of roads analysis in determining the minimum road system needed for safe and efficient travel and for administration, utilization, and protection of NFS lands.

FSM 7714, “Road and Trail Management Objectives,” would revise direction on establishment of road and trail management objectives and would add requirements for management objectives for each NFS road and NFS trail.

FSM 7715, “Travel Management Decisions,” would establish objectives and direction for making travel management decisions that implement 36 CFR part 212.

Per 36 CFR 212.50(b) and the preamble to the travel management rule (70 FR 68268), FSM 7715.1, “Incorporating Previous Travel Management Decisions,” would provide that past travel management decisions (including decisions to allow motor vehicle use on NFS roads, on NFS trails, and in areas on NFS lands and restrictions on motor vehicle use) represent the starting point for travel analysis and travel management decisions. As stated in 36 CFR 212.52(a), if an administrative unit or a Ranger District already has a set of travel management decisions consistent with the requirements in 36 CFR 212.51, the responsible official may, with public notice but no further analysis or decisionmaking, recognize that set of decisions as the designation of NFS roads, NFS trails, and areas on NFS lands for motor vehicle use on that unit or district.

FSM 7715.2, “Scale of Decisions,” would recognize the responsible official's discretion to establish the appropriate scale at which to conduct environmental analysis for travel management decisions, as long as a motor vehicle use map is published for an entire administrative unit or Ranger District.

FSM 7715.3, “Public Involvement and Coordination with Governmental Entities,” would reiterate the requirements in 36 CFR 212.52, would encourage responsible officials to use the public notice and comment procedures in the environmental analysis process to fulfill those requirements, and would encourage early public involvement in the travel planning process.

FSM 7714.4, “Environmental Documentation,” would recognize that the required environmental documentation depends on the scale, scope, and nature of the proposed changes to travel management decisions and the site-specific issues involved.

FSM 7715.5, “Criteria,” would restate the regulatory requirement to consider both the general and specific criteria in 36 CFR 212.55 when making travel management decisions.

FSM 7715.6, “Components of Travel Management Decisions,” would establish direction for nine components of travel management decisions necessary to implement the travel management rule.

FSM 7715.61, “Restrictions,” would recognize that when existing travel management direction provides for large tracts of NFS lands to be open to cross-country motor vehicle use, responsible officials must restrict motor vehicle use to designated roads, trails, and areas to meet the requirements of 36 CFR 212.51.

FSM 7715.62, “Roads and Trails,” would direct responsible officials to consider jurisdiction over forest transportation facilities when designating NFS roads and NFS trails; to evaluate the consistency of proposed travel management decisions with applicable State traffic laws; and to coordinate travel management decisions with adjacent administrative units and Ranger Districts. Nothing in the travel management rule or these proposed directives in any way alters the Forest Service's jurisdiction to enforce traffic laws, to protect NFS lands underlying routes, or to regulate use, including use on valid rights-of-way.

FSM 7715.63, “Areas,” would reference the direction on areas established in FSM 7703.14.

FSM 7715.64, “Big Game Retrieval and Dispersed Camping,” would reiterate authority established in 36 CFR 212.51(b) on including in designation decisions the limited use of motor vehicles within a specified distance of certain designated routes, and if appropriate within specified time periods, solely for the purposes of dispersed camping or big game retrieval. This proposed direction includes a clarification of the circumstances under which this authority may be used. The regulation states “within a specified distance of certain designated routes.” The proposed directives would provide “within a specified distance of certain forest roads and forest trails.” State and county roads are not NFS roads and are not subject to designation under the rule. However, the intent of the regulation is to allow the responsible official to authorize limited use of motor vehicles for dispersed camping and game retrieval on NFS lands. It would make little sense for this authority to depend on the jurisdiction of the road or trail involved. FSM 7715.64 also would encourage responsible officials to consider alternatives prior to designating off-route motor vehicle use for dispersed camping or big game retrieval.

FSM 7715.65, “Valid Existing Rights and Private Roads,” would reiterate direction from 36 CFR 212.55(d)(1) recognizing valid existing rights.

FSM 7715.66, “Wilderness Areas and Primitive Areas,” would reiterate the regulatory prohibition in 36 CFR 212.55(e) against designation of roads, trails, and areas in wilderness areas and primitive areas.

FSM 7715.67, “Motorized Mixed Use of NFS Roads,” would require certain travel management decisions involving motorized mixed use to be informed by engineering analysis. Documentation of engineering analysis would be addressed in FSH 7709.55, Chapter 30.

FSM 7715.68, “User-Created Routes,” would establish that user-created routes may be considered for inclusion in the forest transportation system. FSM 7715.68 would provide that once designation is complete on an administrative unit or a Ranger District, any user-created routes not added to the forest transportation system would be unauthorized and should be decommissioned.

FSM 7715.69, “Accessibility,” would reiterate that under the definitions in 36 CFR 212.1 and 261.2, wheelchairs are not motor vehicles, are not subject to designations under 36 CFR 212.51, and are not subject to the prohibition on motor vehicle use in 36 CFR 261.13. Wheelchairs may be used wherever pedestrian use is allowed. Pursuant to section 504 of the Rehabilitation Act of 1973 and its implementing regulations at 7 CFR 15e.103, FSM 7715.69 also would recognize that there is no legal requirement to allow people with disabilities to use OHVs or other motor vehicles on NFS roads, NFS trails, and areas on NFS lands that are not designated for motor vehicle use.

FSM 7716, “Designations,” would describe the content of motor vehicle designations.

FSM 7716.03, “Policy,” would recognize that designations for motor vehicle use do not establish that use as dominant or exclusive of other uses and that designations are not decisions, but rather reflect travel management decisions supported by appropriate environmental analysis and public involvement.

FSM 7716.1, “Content of Designations,” would establish that designation of an NFS road or NFS trail includes the use of all terminal facilities, trailheads, parking lots, and turnouts associated with that road or trail, as well as parking within one vehicle length from the edge of the road surface when safe to do so. FSM 7716.1 also would establish five standard vehicle classes that may be used in designations and would recognize that designations by time of year must be written in terms of the time of year the route is open. When designations include the limited use of motor vehicles within a specified distance of designated routes solely for dispersed camping or big game retrieval, the vehicle class and time of year specified would not need to be the same as those specified for the route.

FSM 7716.2, “Exemptions,” would restate the exemptions from designations enumerated in 36 CFR 212.51(a) and would explain some of them.

FSM 7716.21, “Existing Authorizations,” would require responsible officials to review written authorizations prior to publishing a motor vehicle use map to ensure that they specifically provide for motor vehicle use to the extent necessary for the authorized use.

FSM 7716.22, “Use of Public Roads,” would recognize that State, county, and local public road authorities regulate use of roads for which they have a legally documented right-of-way. State, county, and local public roads are not subject to designations under the travel management rule or the corresponding prohibition on motor vehicle use.

FSM 7716.3, “Areas,” would establish policy for designation of areas. Like designations of roads and trails, area designations would include vehicle class and, if appropriate, time of year. FSM 7716.3 would require area boundaries to be displayed on the corresponding motor vehicle use map and to be easily located on the ground.

FSM 7716.4, “Identification of Designated Roads, Trails and Areas,” would require administrative units and Ranger Districts to produce motor vehicle use maps meeting national standards. Only the motor vehicle use map is required to implement and enforce designations. However, as soon as practicable, units should post route identification signs on routes designated for motor vehicle use. Route identification markers must correspond to route identifiers shown on the corresponding motor vehicle use map. Signing would have to comply with EM 7100-15.

FSM 7716.5, “Travel Management Orders,” would be organized in three parts. FSM 7716.51, “Temporary Emergency Closures,” would reiterate the requirement for temporary emergency closures from 36 CFR 212.52(b)(2) and E.O. 11644 when the responsible official determines that motor vehicle use is directly causing or will directly cause considerable adverse effects on public safety, soil, vegetation, wildlife habitat, or cultural resources. These closures would remain in effect until the responsible official determines that the adverse effects have been mitigated or eliminated and measures have been implemented to prevent future recurrence. FSM 7716.52, “Existing Orders,” would direct responsible officials to review existing orders and update or rescind them if they duplicate or conflict with designations. FSM 7716.53, “New Orders,” would direct responsible officials to avoid issuing orders that duplicate or conflict with the prohibition on motor vehicle use in 36 CFR 261.13. However, orders will still be needed to close routes designated for motor vehicle use on a temporary, emergency basis, such as during natural disasters or to protect public safety.

FSM 7716.54, “Enforcement,” would reiterate that the motor vehicle use map is the primary tool for enforcing the prohibition at 36 CFR 261.13 and would provide further direction on measuring motor vehicle length, width, and distances established in designations for dispersed camping and big game retrieval.

FSM 7717, “Monitoring and Revision of Designations,” would be organized into two sections. FSM 7717.1, “Monitoring of Motor Vehicle Use,” would reiterate the requirement in 36 CFR 212.57 for responsible officials to monitor the effects of motor vehicle use. FSM 7717.2, “Revision of Designations,” would reiterate that designations may be revised as needed to meet changing conditions (36 CFR 212.54) and would provide that any change in the status of a designated route that will last more than 1 year should be reflected on the corresponding motor vehicle use map.

FSM 7718, “Over-Snow Vehicle Use,” would reiterate that responsible officials may allow, restrict, or prohibit over-snow vehicle use under 36 CFR 212.81. FSM 7718 would provide that restrictions or prohibitions on over-snow vehicle use may be implemented through orders issued under 36 CFR part 261, subpart B, or under 36 CFR 212.81 and 261.14. If 36 CFR part 212, subpart C, is used to restrict or prohibit over-snow vehicle use, the requirements governing designations in 36 CFR 212.52 through 212.57 would apply and the responsible official would have to publish an over-snow vehicle use map, separate from the motor vehicle use map, displaying any restrictions or prohibitions on over-snow vehicle use.

Proposed Revisions to FSH 7709.55, the Travel Planning Handbook

The Forest Service proposes to rename FSH 7709.55, the “Transportation Planning Handbook,” as “the Travel Planning Handbook.” Chapter 10 would be titled “Travel Planning Process,” Chapter 20 would be titled “Travel Analysis,” and Chapter 30 would be titled “Engineering Analysis.”

Chapter 10, “Travel Planning Process,” would establish a six-step process for designation of roads, trails, and areas for motor vehicle use. The six steps of the route and area designation process would be:

1. Compile existing travel management direction.

2. Assemble resource and social data.

3. Use travel analysis to identify proposals for change.

4. Conduct necessary environmental analysis and decision making.

5. Identify designated routes and areas on a motor vehicle use map.

6. Implement, monitor, and revise.

In step one, the responsible official would compile existing travel management direction to serve as the starting point for travel planning. In step two, the responsible official would gather the information needed to analyze the forest transportation system and would engage the public and other relevant governmental entities to identify local resource and social issues, recreational opportunities, and the need for change in existing travel management direction. In step three, the responsible official would conduct travel analysis, which could result in specific proposals for changes to the forest transportation system (additions or deletions to the system of NFS roads and NFS trails on the administrative unit or Ranger District) and changes in travel management direction (changes to motor vehicle use or restrictions on motor vehicle use on the unit or District). In step four, the responsible official would conduct and document appropriate environmental analysis, including consideration of alternatives, and would make travel management decisions. In step five, the responsible official would identify designated routes and areas on a motor vehicle use map. In step six, the responsible official would monitor motor vehicle use on the unit or district and revise travel management decisions as necessary.

Chapter 20, “Travel Analysis,” would incorporate into Forest Service directives the six-step process for travel analysis (which is the third step in the six-step process for designating routes and areas) and other key provisions of FS-643, Roads Analysis:

Informing Decisions About Managing the National Forest Transportation System (August 1999).

The six steps of travel analysis are:

1. Setting up the analysis.

2. Describing the situation.

3. Identifying issues.

4. Assessing benefits, problems, and risks.

5. Describing opportunities and setting priorities.

6. Reporting.

In step one, the responsible official would establish the scale, scope, and depth of travel analysis and would identify who will conduct it. In step two, the responsible official would describe current environmental and social conditions. In step three, the responsible official would identify issues relevant to travel management decisions. In step four, the responsible official would analyze the benefits, problems, and risks associated with the forest transportation system. In step five, the responsible official would use the analysis conducted in step four to identify recommendations for change and proposed actions for purposes of environmental analysis. In step six, the responsible official would document the results of travel analysis.

Chapter 30, “Engineering Analysis,” would incorporate into Forest Service directives the process for exercising and documenting engineering judgment contained in EM-7700-30, “Guidelines for Engineering Analysis of Motorized Mixed Use on National Forest System Roads.” Chapter 30 would require that travel management decisions involving motorized mixed use be informed by engineering analysis conducted by a qualified engineer. The analysis would involve a technical evaluation of road conditions and traffic and an analysis of potential mitigation measures regarding motorized mixed use. Depending on the complexity of the situation, the analysis would range from documenting engineering judgment to a comprehensive engineering report that would address many factors related to motorized mixed use, including mitigation. The analysis would be presented to the responsible official for a decision.

Regulatory Certifications

Environmental Impact

The proposed directives would provide policy and procedural guidance to agency officials implementing the travel management rule. Travel management decisions implementing these proposed directives would include appropriate site-specific environmental analysis and public involvement. The proposed directives would have no effect on the ground until designations of roads, trails, and areas are completed at the field level, with opportunity for public involvement. Section 31b of Forest Service Handbook 1909.15 (57 FR 43180, September 18, 1992) excludes from documentation in an environmental assessment or environmental impact statement “rules, regulations, or policies to establish Service-wide administrative procedures, program processes, or instructions.” The agency's conclusion is that these proposed directives fall within this category of actions and that no extraordinary circumstances exist which would require preparation of an environmental assessment or environmental impact statement.

Regulatory Impact

The proposed directives have been reviewed under USDA procedures and E.O. 12866 on regulatory planning and review. The Office of Management and Budget (OMB) has determined that these proposed directives are not significant for purposes of E.O. 12866. These proposed directives would not have an annual effect of $100 million or more on the economy, nor would they adversely affect productivity, competition, jobs, the environment, public health and safety, or State and local governments. These proposed directives would not interfere with any action taken or planned by another agency, nor would they raise new legal or policy issues. Finally, these proposed directives would not alter the budgetary impact of entitlements, grants, user fees, or loan programs or the rights and obligations of beneficiaries of such programs. Accordingly, these proposed directives are not subject to OMB review under E.O. 12866.

Regulatory Flexibility Act Analysis

These proposed directives have been considered in light of the Regulatory Flexibility Act (5 U.S.C. 602 et seq. The proposed directives would not have any effect on small entities as defined by the Regulatory Flexibility Act. The proposed directives would require identification at the field level, with public input, of a designated system of roads, trails, and areas for motor vehicle use. The proposed directives would not directly affect small businesses, small organizations, and small governmental entities. The agency has determined that these proposed directives would not have a significant economic impact on a substantial number of small entities pursuant to the Regulatory Flexibility Act because the directives would not impose recordkeeping requirements on them; would not affect their competitive position in relation to large entities; and would not affect their cash flow, liquidity, or ability to remain in the market.

No Takings Implications

These proposed directives have been analyzed in accordance with the principles and criteria contained in E.O. 12630. It has been determined that these directives would not pose the risk of a taking of private property.

Federalism and Consultation and Coordination With Indian Tribal Governments

The agency has considered these proposed directives under the requirements of E.O. 13132 on federalism, and has determined that the proposed directives conform with the federalism principles set out in this E.O.; would not impose any compliance costs on the States; and would not have substantial direct effects on the States, the relationship between the Federal government and the States, or the distribution of power and responsibilities among the various levels of government. Therefore, the agency has determined that no further assessment of federalism implications is necessary.

Moreover, these proposed directives would not have Tribal implications as defined by E.O. 13175, Consultation and Coordination With Indian Tribal Governments, and therefore advance consultation with Tribes is not required.

Energy Effects

These proposed directives have been reviewed under E.O. 13211 of May 18, 2001, Actions Concerning Regulations That Significantly Affect the Energy Supply. It has been determined that these proposed directives would not constitute a significant energy action as defined in the E.O.

Unfunded Mandates

Pursuant to Title II of the Unfunded Mandates Reform Act of 1995 (2 U.S.C. 1531-1538), which the President signed into law on March 22, 1995, the agency has assessed the effects of these proposed directives on State, local, and Tribal governments and the private sector. These proposed directives would not compel the expenditure of $100 million or more by any State, local, or Tribal government or anyone in the private sector. Therefore, a statement under section 202 of the act is not required.

Controlling Paperwork Burdens on the Public

These proposed directives do not contain any recordkeeping or reporting requirements or other information collection requirements as defined in 5 CFR part 1320 that are not already required by law or not already approved for use. Accordingly, the review provisions of the Paperwork Reduction Act of 1995 (44 U.S.C. 3501 et seq.) and its implementing regulations at 5 CFR part 1320 do not apply.

Therefore, for the reasons set out in this notice, the Forest Service proposes to amend FSM 2350, 7700, and 7710 and FSH 7709.55. The proposed directives are available for review on the Forest Service Web site at http://www.fs.fed.us/recreation/programs/ohv.

Dated: February 15, 2007.
Abigail R. Kimball,
Chief, Forest Service.

[FR Doc. E7-4261 Filed 3-8-07; 8:45 am]

BILLING CODE 3410-11-P